FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 28, 2010.

A. Federal Reserve Bank of Kansas City (Dennis Denney, Assistant Vice President) 1 Memorial Drive, Kansas City, Missouri 64198-0001:

1. David H. Duey Revocable Trust, David H. Duey, trustee, Scottsbluff, Nebraska; Diana Duey Strokan Trust, Diana Duey Strokan, trustee, Plattsmouth, Nebraska; Ann Duey Revocable Trust, Ann Duey, trustee, Scottsbluff, Nebraska; Sara Lierman, Gretna, Nebraska; Laura Strickland, Brentwood, Tennessee; Dan Duey, Lincoln, Nebraska; Natasha Duran, Santa Fe, New Mexico; and Nathan Strokan, Plattsmouth, Nebraska; all members of the Duey Family Group, to retain control of Cass County State Company, and thereby indirectly retain control of Cass County Bank, Inc., both of Plattsmouth, Nebraska.

Board of Governors of the Federal Reserve System, September 8, 2010.
Robert deV. Frierson,
Deputy Secretary of the Board.

[FR Doc. 2010-22724 Filed 9-10-10; 8:45 am]

BILLING CODE 6210-01-S